DEPARTMENT OF LABOR

Employment and Training Administration

[TA-W-65,444]

Graphic Visual Solution Inc., Greensboro, NC; Notice of Termination of Investigation

Pursuant to Section 221 of the Trade Act of 1974, as amended, an investigation was initiated on February 2, 2009 in response to a petition filed by a company official on behalf of workers of Graphic Visual Solution Inc., Greensboro, North Carolina.

This petition is a photocopy of petition TA-W-65,455 that is the subject of an ongoing investigation for which a determination has not yet been issued.

Further investigation in this case would serve no purpose and this petition is terminated.

Signed at Washington, DC this 10th day of March, 2009.
Linda G. Poole,
Certifying Officer, Division of Trade Adjustment Assistance.

[FR Doc. E9-5923 Filed 3-18-09; 8:45 am]

BILLING CODE 4510-FN-P